DEPARTMENT OF JUSTICE

Office of Justice Programs

[OJP (OJP) Docket No. 1611]

Meeting of the Office of Justice Programs' Science Advisory Board

AGENCY: Office of Justice Programs (OJP), Justice.

ACTION: Notice of meeting.

SUMMARY: This notice announces a forthcoming meeting of OJP's Science Advisory Board (“Board”). General Function of the Board: The Board is chartered to provide OJP, a component of the Department of Justice, with valuable advice in the areas of science and statistics for the purpose of enhancing the overall impact and performance of its programs and activities in criminal and juvenile justice. To this end, the Board has designated six (6) subcommittees: National Institute of Justice (NIJ); Bureau of Justice Statistics (BJS); Office of Juvenile Justice and Delinquency Prevention (OJJDP); Bureau of Justice Assistance; Quality and Protection of Science; and Evidence Translation/Integration.

DATES: The meeting will take place on Friday, January 11, 2013, from 8:30 a.m. to 4:00 p.m., ET, with a break for lunch at approximately noon.

ADDRESSES: The meeting will take place in the Video Conference Room on the third floor of the Office of Justice Programs, 810 7th Street Northwest, Washington, DC 20531.

FOR FURTHER INFORMATION CONTACT: Marlene Beckman, Designated Federal Officer (DFO), Office of the Assistant Attorney General, Office of Justice Programs, 810 7th Street Northwest, Washington, DC 20531; Phone: (202) 616-3562 [Note: this is not a toll-free number]; Email: marlene.beckman@usdoj.gov.

SUPPLEMENTARY INFORMATION: This meeting is being convened to brief the OJP Assistant Attorney General and the Board members on the progress of the subcommittees, discuss any recommendations they may have for consideration by the full SAB, and brief the Board on various OJP-related projects and activities. The final agenda is subject to adjustment, but it is anticipated that there will be a morning session and an afternoon session, with a break for lunch. These sessions will likely include briefings of the subcommittees' activities and discussion of future SAB actions and priorities.

This meeting is open to the public. Members of the public who wish to attend this meeting must register with Marlene Beckman at the above address at least seven (7) days in advance of the meeting. Registrations will be accepted on a space available basis. Access to the meeting will not be allowed without registration. Persons interested in communicating with the Board should submit their written comments to the DFO, as the time available will not allow the public to directly address the Board at the meeting. Anyone requiring special accommodations should notify Ms. Beckman at least seven (7) days in advance of the meeting.

Dated: December 4, 2012.
Marlene Beckman,
Counsel and SAB DFO, Office of the Assistant Attorney General, Office of Justice Programs.

[FR Doc. 2012-29724 Filed 12-7-12; 8:45 am]

BILLING CODE 4410-18-P